DEPARTMENT OF COMMERCE

International Trade Administration

[A-570-831]

Continuation of Antidumping Duty Order: Fresh Garlic From the People's Republic of China

AGENCY: Enforcement and Compliance, International Trade Administration, Department of Commerce.

SUMMARY: The Department of Commerce (Department) and the U.S. International Trade Commission (ITC) determined that revocation of the antidumping duty order (AD Order) on fresh garlic from the People's Republic of China (PRC) would likely lead to a continuation or recurrence of dumping and material injury to an industry in the United States. Therefore, the Department is publishing a notice of continuation for this AD Order.

DATES: Applicable November 6, 2017.

FOR FURTHER INFORMATION CONTACT: Jacqueline Arrowsmith, AD/CVD Operations, Office VII, Enforcement and Compliance, International Trade Administration, U.S. Department of Commerce, 1401 Constitution Avenue NW., Washington, DC 20230; telephone: (202) 482-5255.

SUPPLEMENTARY INFORMATION:

Background

On November 16, 1994, the Department of Commerce published in the Federal Register the AD Order on fresh garlic from the PRC.¹ On April 3, 2017, the Department published in the Federal Register a notice of initiation of its fourth five-year (sunset) review of the AD Order on fresh garlic from the PRC, pursuant to section 751(c) of the Tariff Act of 1930, as amended (the Act).²

¹ See Antidumping Duty Order: Fresh Garlic from the People's Republic of China, 59 FR 59209 (November 16, 1994).

² See Initiation of Five-Year (“Sunset”) Reviews, 82 FR 16159 (April 3, 2017).

The Department conducted this sunset review on an expedited basis, pursuant to section 751(c)(3)(B) of the Act and 19 CFR 351.218(e)(1)(ii)(C)(2), because it received a complete, timely, and adequate response from a domestic interested party but no substantive responses from respondent interested parties. As a result of this sunset review, the Department determined that revocation of the AD order would likely lead to a continuation or recurrence of dumping and, therefore, notified the ITC of the magnitude of the margins likely to prevail should the order be revoked.³

³ See Fresh Garlic from the People's Republic of China: Final Results of Fourth Expedited Sunset Review of the Antidumping Duty Order, 82 FR 36752 (August 7, 2017) and accompanying Issues and Decision Memorandum.

On October 24, 2017, the ITC published its determination that revocation of the AD Order on fresh garlic would likely lead to a continuation or recurrence of material injury to an industry in the United States within a reasonably foreseeable time, pursuant to section 751(C) of the Act.⁴

⁴ See Fresh Garlic from China, 82 FR 49230 (October 24, 2017).

Scope of the Order

The products subject to the AD Order are all grades of garlic, whole or separated into constituent cloves, whether or not peeled, fresh, chilled, frozen, provisionally preserved, or packed in water or other neutral substance, but not prepared or preserved by the addition of other ingredients or heat processing. The differences between grades are based on color, size, sheathing, and level of decay.

The scope of the AD Order does not include the following: (a) Garlic that has been mechanically harvested and that is primarily, but not exclusively, destined for non-fresh use; or (b) garlic that has been specially prepared and cultivated prior to planting and then harvested and otherwise prepared for use as seed.

The subject merchandise is used principally as a food product and for seasoning. The subject garlic is currently classifiable under subheadings 0703.20.0000, 0703.20.0005, 0703.20.0015, 0703.20,0010, 0703.20.0020, 0703.20.0090, 0710.80.7060, 0710.80.9750, 0711.90.6000, 0711.90.6500, 2005.90.9500, 2005.90.9700 and 2005.99.9700 of the Harmonized Tariff Schedule of the United States (HTSUS). Although the HTSUS subheadings are provided for convenience and customs purposes, the written description of the scope of the order is dispositive. In order to be excluded from the AD Order garlic entered under the HTSUS subheadings listed above that is (1) mechanically harvested and primarily, but not exclusively, destined for non-fresh use or (2) specially prepared and cultivated prior to planting and then harvested and otherwise prepared for use as seed must be accompanied by declarations to U.S. Customs and Border Protection (CBP) to that effect.

Continuation of the Order

As a result of the determinations by the Department and the ITC that revocation of the AD Order would likely lead to a continuation or recurrence of dumping and material injury to an industry in the United States, pursuant to section 751(d)(2) of the Act and 19 CFR 351.218(a), the Department hereby orders the continuation of the AD Order on fresh garlic from the PRC.

CBP will continue to collect antidumping duty cash deposits at the rates in effect at the time of entry for all imports of subject merchandise. The effective date of the continuation of this order will be the date of publication in the Federal Register of the notice of continuation of the AD Order on fresh garlic. Pursuant to section 751(c)(2) of the Act, the Department intends to initiate the sunset review of this order not later than 30 days prior to the fifth anniversary of the effective date of continuation.

The sunset review and this notice are in accordance with section 751(c) of the Act and published pursuant to section 777(i)(1) of the Act and 19 CFR 351.218(f)(4).

Dated: October 31, 2017.
Gary Taverman,
Deputy Assistant Secretary for Antidumping and Countervailing Duty Operations, performing the non-exclusive functions and duties of the Assistant Secretary for Enforcement and Compliance.

[FR Doc. 2017-24071 Filed 11-3-17; 8:45 am]

BILLING CODE 3510-DS-P